DEPARTMENT OF JUSTICE

Office of the Assistant Attorney General for Civil Rights; Certification of the Maryland Accessibility Code Under the Americans With Disabilities Act

AGENCY: Department of Justice.

ACTION: Notice of preliminary determination of equivalency, the period for submitting public comments and the hearing in Maryland on the proposed determination of equivalency.

SUMMARY: The Department of Justice (Department) has determined that the Maryland Accessibility Code, under .05.02.02 of the Code of Maryland Regulations (COMAR), as adopted pursuant to Article 83B, section 6-102 of the Annotated Code of Maryland (together, the Maryland law), meets or exceeds the new construction and alterations requirements of title III of the Americans with Disabilities Act of 1990 (ADA). The Department proposes to issue a final certification, pursuant to 42 U.S.C. 12188(b)(1)(A)(ii) and 28 CFR 36.601 et seq., which would constitute rebuttable evidence, in any enforcement proceeding, that a building constructed or altered in accordance with the Maryland law meets or exceeds the requirements of the ADA. The Department invites public comment on the proposed certification determination and will hold an informal hearing on the proposed determination in Ellicott City, Maryland.

DATES: To be assured of consideration, comments must be in writing and must be received on or before October 14, 2003. The hearing in Ellicott City, Maryland is scheduled for Thursday, September 4, 2003, at 1 p.m., Eastern Time.

ADDRESSES: Comments on the preliminary determination of equivalency and on the proposal to issue final certification of equivalency of the Maryland law should be sent to: John L. Wodatch, Chief, Disability Rights Section, Civil Rights Division, U.S. Department of Justice, 950 Pennsylvania Avenue, NW., 1425 NYA Building, Washington, DC 20530.

The hearing in Maryland will be held at the office of the Maryland Department of Community Development located at: The Banneker Room, George Howard Building/Howard County Office Complex, Ellicott City, MD 21043.

FOR FURTHER INFORMATION CONTACT: John L. Wodatch, Chief, Disability Rights Section, Civil Rights Division, U.S. Department of Justice, 950 Pennsylvania Avenue, NW., 1425 NYA Building, Washington, DC 20530. Telephone number (800) 514-0301 (Voice) or (800) 514-0383 (TTY).

Copies of this notice are available in formats accessible to individuals with vision impairments and may be obtained by calling (800) 514-0301 (Voice) or (800) 514-0383 (TTY). Copies of the Maryland law and supporting materials may be inspected by appointment at 1425 New York Avenue, NW., Suite 4039, Washington, DC by calling Linda Garrett at (202) 353-0423 TTY, or by e-mail at Linda.Garrett@usdoj.gov.

SUPPLEMENTARY INFORMATION:

Background: The ADA authorizes the Department of Justice, upon application by a State or local government, to certify that a State or local law that establishes accessibility requirements meets or exceeds the minimum requirements of title III of the ADA for new construction and alterations. 42 U.S.C. 12188(b)(1)(A)(ii); 28 CFR 36.601 et seq. Final certification constitutes rebuttable evidence, in any ADA enforcement action, that a building constructed or altered in accordance with the certified code complies with the new construction and alterations requirements of title III of the ADA.

The Maryland Department of Housing and Community Development requested that the Department of Justice (Department) certify that the Maryland Accessibility Code, under .05.02.02 of the Code of Maryland Regulations (COMAR), as adopted pursuant to Article 83B, section 6-102 of the Annotated Code of Maryland (together, the Maryland law), meets or exceeds the new construction and alterations requirements of title III of the ADA.

The Department has analyzed the Maryland law and has preliminarily determined that it meets or exceeds the new construction and alterations requirements of title III of the ADA. By letter dated May 29, 2003, the Department notified the Maryland Department of Housing and Community Development of its preliminary determination of equivalency.

Effect of Certification: The certification determination will be limited to the version of the Maryland law that has been submitted to the Department. The certification will not apply to amendments or interpretations that have not been submitted and reviewed by the Department.

Certification will not apply to buildings constructed by or for State or local government entities, which are subject to title II of the ADA. Nor does certification apply to accessibility requirements that are addressed by the Maryland law that are not addressed by the ADA Standards for Accessible Design.

Finally, certification does not apply to variances or waivers granted under the Maryland law. Therefore, if a builder receives a variance, waiver, modification, or other exemption from the requirements of the Maryland law for any element of construction or alterations, the certification determination will not constitute evidence of ADA compliance with respect to that element.

Procedure: The Department will review comments received from the public regarding the proposed determination and, during the 60-day comment period, will hold an informal hearing in Maryland to provide an opportunity for interested persons, including individuals with disabilities, to express their views with respect to the preliminary determination of equivalency of the Maryland law. Interested parties who wish to testify at the hearing should contact Linda Garrett at (202) 353-0423 TTY or by e-mail at Linda.Garrett@usdoj.gov.

The hearing site will be accessible to individuals with disabilities. Individuals who require sign language interpreters or other auxiliary aids should contact Linda Garrett at (202) 353-0423 TTY, or by e-mail at Linda.Garrett@usdoj.gov. A notice of at least four days before the hearing date would be greatly appreciated if individuals require sign language interpreters or other auxiliary aids.

Dated: August 8, 2003.
J. Michael Wiggins,
Acting Assistant Attorney General for Civil Rights.

[FR Doc. 03-20795 Filed 8-14-03; 8:45 am]

BILLING CODE 4410-13-M